SECURITIES AND EXCHANGE COMMISSION

[SEC File No. 270-440, OMB Control No. 3235-0496]

Submission for OMB Review; Comment Request

Upon Written Request, Copies Available From:Securities and Exchange Commission, Office of FOIA Services, 100 F Street NE, Washington, DC 20549-2736

Extension:

Appendix F to Rule 15c3-1

Notice is hereby given that pursuant to the Paperwork Reduction Act of 1995 (44 U.S.C. 3501 et seq.) (“PRA”), the Securities and Exchange Commission (“Commission”) is soliciting comments on the existing collection of information provided for in appendix F to Rule 15c3-1 (“appendix F” or “Rule 15c3-1f”) (17 CFR 240.15c3-1f) under the Securities Exchange Act of 1934 (15 U.S.C. 78a et seq.).

Under appendix F, a class of broker-dealers known as over-the counter (“OTC”) derivatives dealers may apply to the Commission for authorization to compute net capital charges for market and credit risk in accordance with appendix F in lieu of computing securities haircuts under paragraph (c)(2)(vi) of Exchange Act Rule 15c3-1.

At present, three OTC derivatives dealers have been approved to use appendix F. Two OTC derivatives dealers have applied to use appendix F, and the staff expects that one additional OTC derivatives dealer will apply to use appendix F during the next three years. The Commission estimates that the three approved OTC derivatives dealers and two OTC derivatives dealers with pending applications (if approved) will spend an average of approximately 1,000 hours each per year reporting information concerning their VAR models and internal risk management systems, for an annual burden of 5,000 hours. The Commission estimates that, on average, a firm initially will take approximately 1,000 hours to prepare an application to use appendix F. For the one firm expected to apply, this would result in an annual burden of 333 hours per year amortized over three years. For the two years after it registers, the new registrant would spend an average of approximately 1,000 hours each year reporting information concerning its VAR model and internal risk management system, for an annual burden of 667 hours per year amortized over 3 years.

An agency may not conduct or sponsor, and a person is not required to respond to, a collection of information under the PRA unless it displays a currently valid OMB control number.

The public may view background documentation for this information collection at the following website: www.reginfo.gov. Comments should be directed to: (i) Desk Officer for the Securities and Exchange Commission, Office of Information and Regulatory Affairs, Office of Management and Budget, Room 10102, New Executive Office Building, Washington, DC 20503, or by sending an email to: Lindsay.M.Abate@omb.eop.gov; and (ii) Charles Riddle, Acting Director/Chief Information Officer, Securities and Exchange Commission, c/o Candace Kenner, 100 F Street NE, Washington, DC 20549, or by sending an email to: PRA_Mailbox@sec.gov. Comments must be submitted to OMB within 30 days of this notice.

Dated: May 2, 2019.
Vanessa A. Countryman,
Acting Secretary.

[FR Doc. 2019-09282 Filed 5-6-19; 8:45 am]

BILLING CODE 8011-01-P